DEPARTMENT OF HEALTH AND HUMAN SERVICES

Centers for Disease Control and Prevention

[Program Announcement 02185]

Cooperative Agreement to the Association of Immunization Managers; Notice of Award of Funds

A. Purpose

The Centers for Disease Control and Prevention (CDC) announces the availability of fiscal year (FY) 2002 funds for a cooperative agreement program for the Association of Immunization Managers. This program addresses the “Healthy People 2010” focus area of Immunization and Infectious Diseases.

The purpose of the program is to (1) maintain an effective communication capacity among the nation's immunization program managers and CDC; (2) sustain a capacity to coordinate both rapid and comprehensive assessments of problems and opportunities faced by immunization managers; and (3) establish a capacity to coordinate the consultations and collaborations that will enable state and local health departments to assimilate and implement the latest programmatic, scientific and technological developments and concepts affecting the goal of immunizing our nation's citizens.

B. Eligible Applicants

Assistance will be provided only to the Association of Immunization Mangers (AIM). No other applications are solicited. AIM is the only organization that has an established relationship with state and local health department immunization programs, access to public health managers and practitioners involved in the control of vaccine-preventable diseases, and the expertise necessary to carry out this project. AIM is a unique organization because its members have technical expertise in the areas of management, vaccine, information technology, quality assurance, health care delivery, health education and disease surveillance which is required to ensure effective implementation of population-based immunization programs.

Note: Title 2 of the United States Code section 1611 states that an organization described in section 501(c)(4) of the Internal Revenue Code that engages in lobbying activities is not eligible to receive Federal funds constituting an award, grant or loan.

C. Availability of Funds

$150,000 is being awarded in FY 2002. It is expected that the award will begin on or about September 30, 2002 and will be made for a 12-month budget period within a project period of up to five years. Funding estimates may change.

Continuation awards within an approved project period will be made on the basis of satisfactory progress as evidenced by required reports and the availability of funds.

D. Where To Obtain Additional Information

This and other CDC announcements, the necessary applications, and associated forms can be found on the CDC home page Internet address— http://www.cdc.gov. Click on “Funding” then “Grants and Cooperative Agreements.”

For business management assistance, contact: Peaches Brown, Grants Management Specialist, Procurement and Grants Office, Centers for Disease Control and Prevention, 2920 Brandywine Road, Room 3000, Atlanta, GA 30341-4146, Telephone number: (770) 488-2738, Email address: prb0@cdc.gov.

For program technical assistance, contact: Kenneth Sharp, Program Operations Branch, ISD, National Immunization Program, Mailstop E-52, 1600 Clifton Rd, Atlanta, GA 30333, Telephone number: (404) 639-8215, Email address: kls2@cdc.gov.

Dated: September 24, 2002.
Sandra R. Manning,
Director, Procurement and Grants Office, Centers for Disease Control and Prevention.

[FR Doc. 02-24986 Filed 10-1-02; 8:45 am]

BILLING CODE 4163-18-P